ENVIRONMENTAL PROTECTION AGENCY

[EPA-HQ-OAR-2006-0947; FRL-8711-6]

Agency Information Collection Activities; Submission to OMB for Review and Approval; Comment Request; Clean Air Interstate Rule To Reduce Interstate Transport of Fine Particle Matter and Ozone (Renewal); EPA ICR No. 2152.03, OMB Control No. 2060-0570

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before October 6, 2008.

ADDRESSES: Submit your comments, referencing Docket ID No. EPA-HQ-OAR-2006-0947, to (1) EPA online using http://www.regulations.gov (our preferred method), by e-mail to a-and-r-Docket@epa.gov, or by mail to: EPA Docket Center, Environmental Protection Agency, Fax: (202) 566-9744, or Air Docket, Environmental Protection Agency, Mail code: 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Ruben D. Deza, Clean Air Markets Division, (6204J), Environmental Protection Agency, 1200 Pennsylvania Ave., NW., Washington, DC 20460; telephone number: 202-343-9364; fax number: 202-343-2359; e-mail address: deza.ruben@epa.gov.

SUPPLEMENTARY INFORMATION: EPA has submitted the following ICR to OMB for review and approval according to the procedures prescribed in 5 CFR 1320.12. On 05/06/08 (73 FR 24973), EPA sought comments on this ICR pursuant to 5 CFR 1320.8(d). EPA received no comments during the comment period. Any additional comments on this ICR should be submitted to EPA and OMB within 30 days of this notice.

EPA has established a public docket for this ICR under EPA Docket ID No. EPA-HQ-OAR-2006-0947, which is available for online viewing at http://www.regulations.gov, or in person viewing at the Air and Radiation Docket, in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air and Radiation Docket is (202) 566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Clean Air Interstate Rule to Reduce Interstate Transport of Fine Particle Matter and Ozone (Renewal).

ICR numbers: EPA ICR No. 2152.03, OMB Control No. 2060-0570.

ICR Status: This ICR is currently scheduled to expire on September 30, 2008. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The United States (U.S.) Environmental Protection Agency (EPA) promulgated the Clean Air Interstate Rule to Reduce Interstate Transport of Fine Particulate Matter and Ozone, which includes reporting requirements and combines these requirements with existing requirements from the Consolidated Emissions Reporting Rule (CERR), the Emission Reporting Requirements for Ozone State Implementation Plan (SIP) Revisions Relating to Statewide Budgets for NOX Emissions to Reduce Regional Transport of Ozone (NOX SIP Call) and the Acid Rain Program under Title IV of the CAA Amendments of 1990. Each of these three existing requirements has an approved ICR in place. This ICR is being submitted to account for the incremental burden associated with CAIR. The ICR details the additions and changes to reporting requirements associated with CAIR. These changes include: (1) Changes to existing requirements for emission reporting under the CERR; and (2) the addition of reporting requirements to support emissions trading in States using the CAIR model cap and trade rules.

Burden Statement: The annual public reporting and recordkeeping burden for this collection of information is estimated to average 87 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 1,190.

Frequency of response: Quarterly.

Estimated total annual burden hours: 404,705 hours.

Estimated total annual costs: $51,472,083, which included $26,309,080 in capital and O&M costs.

Changes in the Estimates: There is an increase of 22,012 hours in the total estimated burden currently identified in the OMB Inventory of Approved ICR Burdens. This ICR incorporates the burden associated with all CAIR-affected sources, including those located in NOX SIP Call States. The NOX SIP Call ICR (OMB Control Number 2060-0445) expires at the end of 2008. As such, starting in 2009, the burden associated with the NOX trading program requirements under the NOX SIP Call are now covered in this ICR. Without incorporating those burdens and costs, the overall labor burden in this ICR would be less than the estimate in the prior version of this ICR.

Dated: August 28, 2008.
Sara Hisel-McCoy,
Director, Collection Strategies Division.

[FR Doc. E8-20598 Filed 9-4-08; 8:45 am]

BILLING CODE 6560-50-P